DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing:

U.S. Patent No. 6,539,872: Fuze Sterilization Using Sacrificial Anodic Component.//U.S. Patent No. 6,552,336: Non-Invasive, Opto-Acoustic Water Current Measurement System and Method.//U.S. Patent No. 6,561,023: Cellulose-Based Water Sensing Actuator.//U.S. Patent No. 6,561,115: Anchor Insertion Device.//U.S. Patent No. 6,568,878: Wave Energy Dissipater and Beach Renourishing System.//U.S. Patent No. 6,569,254: Localized Acidic Underwater Surface Cleaning Apparatus.//U.S. Patent No. 6,571,906: Underwater Sound Mitigation System for Explosive Testing.//U.S. Patent No. 6,586,748: Non-Invasive Water Current Measurement System and Method.//U.S. Patent No. 6,609,473: High Speed Modular Sea Base.//U.S. Patent No. 6,618,687: Temperature-Based Estimation of Remaining Absorptive Capacity of a Gas Absorber.//U.S. Patent No. 6,619,220: Hybrid ES/Hovercraft with Retractable Skirt System.//U.S. Patent No. 6,620,009: Method of Making Selective Multiple Contour High Efficiency Swim Fins.//U.S. Patent No. 6,622,063: Container-Based Product Dispensing System.//U.S. Patent No. 6,622,098: Automated System for Calculating Magnetic Stray Field Data Associated with Current Loop Configuration.//U.S. Patent No. 6,640,739: Air-Delivered Monocoque Submersible Vehicle System.//U.S. Patent No. 6,655,313: Collapsible Wet or Dry Submersible Vehicle.//U.S. Patent No. 6,655,636: Product Wrapping Incorporating Air Drag Device.//U.S. Patent No. 6,657,585: System for Generating GPS Position of Underwater Vehicle.//

ADDRESSES: Requests for copies of the patents cited should be directed to Naval Surface Warfare Center Panama City, 110 Vernon Ave, Code XP01L, Panama City, FL 32407-7001.

FOR FURTHER INFORMATION CONTACT: Mr. Harvey A. Gilbert, Counsel, Naval Surface Warfare Center Panama City, 110 Vernon Ave, Code XP01L, Panama City, FL 32407-7001, telephone (850) 234-4646.

Authority: 35 U.S.C. 207, 37 CFR Part 404.

Dated: March 3, 2004.
S.A. Hughes,
Lieutenant Commander, Judge Advocate General Corps, U.S. Navy, Federal Register Liaison Officer.

[FR Doc. 04-5326 Filed 3-9-04; 8:45 am]

BILLING CODE 3810-FF-P